DEPARTMENT OF VETERANS AFFAIRS

[OMB Control No. 2900-0864]

Agency Information Collection Activity Under OMB Review: Post Separation Transition Assistance Program (TAP) Assessment Survey

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by October 27, 2025.

ADDRESSES: To submit comments and recommendations for the proposed information collection, please type the following link into your browser: www.reginfo.gov/public/do/PRAMain, select “Currently under Review—Open for Public Comments”, then search the list for the information collection by Title or “OMB Control No. 2900-0864.”

FOR FURTHER INFORMATION CONTACT: VA PRA information: Dorothy Glasgow, 202-461-1084, VAPRA@va.gov.

SUPPLEMENTARY INFORMATION:

Title: Post Separation Transition Assistance Program (TAP) Assessment Survey.

OMB Control Number: 2900-0864.

Type of Review: Revision of a currently approved collection.

Abstract: The PSTAP Assessment is administered by VA to assess how the TAP training for Transitioning Service members (TSMs) prepares Veterans for civilian life and its effects on long-term Veteran outcomes. This information collection request (ICR) is conducted once per year and is designed as two separate collections which include a Cross-Sectional Survey and a Longitudinal Survey. The survey population for the Cross-Sectional Survey includes all Veterans who meet the criteria at the time of fielding of having separated from the military at six months, one year, and three years prior to the date that surveys. Service members who participated in the Cross-Sectional Survey and voluntarily agreed to participate in the Longitudinal Survey make up the Longitudinal Survey population. VA will use email and mail methods to administer the survey, reducing the burden on respondents. The surveys are necessary to gauge the long-term effectiveness of the Transition Assistance Program (TAP) by: (1) examining the relationship between attendance in TAP courses and the use of VA Benefits; (2) analyzing the effect of participation in TAP courses on the long-term outcomes of Veterans in the broad life domains of employment, education, health and social relationships, financial, social connectivity and overall satisfaction and well-being, and; (3) identifying areas of improvement for TAP and the broader transition process to guide training and/or operational activities aimed at enhancing the quality of service provided to transitioning service members, Veterans, their families and caregivers.

The National Defense Authorization Act (NDAA) for Fiscal Year 2019 mandated several changes to TAP. In addition, Section 4305 of the Veterans Health Care and Benefits Improvement Act of 2020 (hereafter referred to as Public Law 116-315) calls for a one-year independent assessment of TAP. Section 4306 of Public Law 116-315 calls for a five-year longitudinal study on three cohorts of Veterans to assess changes to TAP under the NDAA and changes based on the independent assessment under Section 4305 and provide annual progress reports and a final report. The Section 4306 Study will analyze the outcomes between Veterans who attended TAP before and after changes to the program. Both the PSTAP Assessment and Section 4306 Study are included in this current ICR because some Veterans in the PSTAP Study were also selected for the Section 4306 Study cohorts. A single survey instrument collects the information needed for both studies so that Veterans are not contacted twice. This reduces burden while ensuring both studies collect the data required to meet Congressional and Government requirements.

An agency may not conduct or sponsor, and a person is not required to respond to a collection of information unless it displays a currently valid OMB control number. The Federal Register Notice with a 60-day comment period soliciting comments on this collection of information was published at 90 FR 35381, July 25, 2025.

Affected Public: Individuals.

Estimated Annual Burden: 9,582.

Estimated Average Burden per Respondent: 18.5 minutes.

Frequency of Response: Annual.

Estimated Number of Respondents: 31,075.

Authority: 44 U.S.C. 3501 et seq.

Shunda Willis,
Acting, VA PRA Clearance Officer, (Alt.), Office of Enterprise and Integration, Data Governance Analytics, Department of Veterans Affairs.

[FR Doc. 2025-18703 Filed 9-25-25; 8:45 am]

BILLING CODE 8320-01-P